CONSUMER PRODUCT SAFETY COMMISSION

Sunshine Act Meeting

TIME AND DATE: Wednesday, March 28, 2012, 10 a.m.-12 p.m.

PLACE: Room 420, Bethesda Towers, 4330 East West Highway, Bethesda, Maryland.

STATUS: Commission Meeting—Open to the Public

Matters To Be Considered

1. Decisional Matter: Fiscal Year 2012 Operating Plan.

2. Briefing Matter: § 1112: Lab Withdrawal, Codification & Audit Provisions.

A live webcast of the Meeting can be viewed at www.cpsc.gov/webcast. For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: March 20, 2012.
Todd A. Stevenson,
Secretary.

[FR Doc. 2012-7083 Filed 3-20-12; 4:15 pm]

BILLING CODE 6355-01-P